NATIONAL SCIENCE FOUNDATION

Membership of National Science Foundation's Office of Inspector General and National Science Board Office Senior Executive Service Performance Review Board

AGENCY: National Science Foundation.

ACTION: Announcement of Membership of the National Science Foundation's Performance Review Board for the Office of Inspector General and the National Science Board Office Senior Executive Service positions.

SUMMARY: This announcement of the membership of the National Science Foundation's Office of Inspector General and National Science Board Office Senior Executive Service Performance Review Board is made in compliance with 5 U.S.C. 4314(c)(4).

ADDRESSES: Comments should be addressed to Director, Division of Human Resource Management, National Science Foundation, Room 315, 4201 Wilson Boulevard, Arlington, VA 22230.

FOR FURTHER INFORMATION CONTACT: Mr. Joseph F. Burt at the above address or (703) 292-8180.

SUPPLEMENTARY INFORMATION: The membership of the National Science Foundation's Office of Inspector General and National Science Board Office Senior Executive Service Performance Review Board is as follows:

Dan E. Arvizu, Chairman, Audit and Oversight Committee, National Science Board, Chair.

Nathaniel Pitts, Director, Office of Integrative Activities.

Edward L. Blansitt, III, Assistant Inspector General for Investigations, Department of Commerce.

Dated: June 20, 2007.
Joseph F. Burt,
Director, Division of Human Resource Management.

[FR Doc. 07-3110 Filed 6-25-07; 8:45 am]

BILLING CODE 7555-01-M